DEPARTMENT OF EDUCATION

[Docket No.: ED-2020-SCC-0108]

Agency Information Collection Activities; Submission to the Office of Management and Budget for Review and Approval; Comment Request; HBCU Capital Financing Program Deferment Applications

AGENCY: Office of Postsecondary Education, Department of Education (ED).

ACTION: Notice

SUMMARY: In accordance with the Paperwork Reduction Act of 1995, ED is proposing an ICR Extension.

DATES: Interested persons are invited to submit comments on or before October 16, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Don Watson, (202) 453-6166.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: HBCU Capital Financing Program Deferment Applications.

OMB Control Number: 1840-0845.

Type of Review: An Extension of an Existing Information Collection.

Respondents/Affected Public: Private Sector; State, Local, and Tribal Governments.

Total Estimated Number of Annual Responses: 50.

Total Estimated Number of Annual Burden Hours: 50.

Abstract: In the Coronavirus Aid, Relief, and Economic Security Act (CARES Act), Public Law 116-136 (March 27, 2020), Congress provided authority for deferments due to a qualifying emergency. Generally, the CARES Act provides that the Secretary may grant a deferment to recipients of Program loans, regardless of whether the recipient is a public or private HBCU, for the duration of the coronavirus-related emergency. The Department has developed an application for HBCUs to seek a deferment of a Program loan under the CARES Act. This application will allow a Program participant to request the deferment and submit information for the Department's required report to Congress regarding its use of its CARES Act authority to grant the deferments.

Dated: September 11, 2020.
Kate Mullen,
PRA Coordinator, Strategic Collections and Clearance Governance and Strategy Division, Office of Chief Data Officer, Office of Planning, Evaluation and Policy Development.

[FR Doc. 2020-20414 Filed 9-15-20; 8:45 am]

BILLING CODE 4000-01-P